DEPARTMENT OF THE TREASURY

Submission for OMB Review; Comment Request

April 29, 2005.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 9, 2005 to be assured of consideration.

Departmental Offices/Community Development Financial Institutions (CDFI) Fund

OMB Number: 1559-0028.

Form Number: CDFI-0005.

Type of Review: Reinstatement.

Title: The Community Development Financial Institutions Program—Certification Application.

Description: The certification application will be used to determine whether an entity seeking CDFI certification or recertification meets the Fund's requirements for such certification as set forth in 12 CFR 1805.201.

Respondents: Business or other for-profit, Not-for-profit institution, State, local or tribal government.

Estimated Number of Respondents: 315.

Estimated Burden Hours Per Respondent: 40 hours.

Frequency of Response: On occasion.

Estimated Total Reporting Burden: 12,600 hours.

Clearance Officer: Lois K. Holland, (202) 622-1563, Departmental Offices, Room 11309, 1750 Pennsylvania Avenue, NW., Washington, DC 20220.

OMB Reviewer: Alexander T. Hunt, (202) 395-7316, Office of Management and Budget, Room 10235, New Executive Office Building, Washington, DC 20503.

Lois K. Holland,
Treasury PRA Clearance Officer.

[FR Doc. 05-9286 Filed 5-9-05; 8:45 am]

BILLING CODE 4811-16-P